SECURITIES AND EXCHANGE COMMISSION

[File No. 500-1]

In the Matter of African Copper Corp., Genmed Holding Corp., and Yanglin Soybean, Inc., Order of Suspension of Trading

November 19, 2015.

It appears to the Securities and Exchange Commission that there is a lack of current and accurate information concerning the securities of African Copper Corp. (CIK No. 1526185), a revoked Nevada corporation with its principal place of business listed as Mowbray, Cape Town, South Africa, with stock quoted on OTC Link (previously, “Pink Sheets”) operated by OTC Markets Group, Inc. (“OTC Link”) under the ticker symbol ACCS, because it has not filed any periodic reports since the period ended January 31, 2013. On October 22, 2014, the Division of Corporation Finance sent African Copper a delinquency letter requesting compliance with their periodic filing obligations, but the letter was returned because of African Copper's failure to maintain a valid address on file with the Commission, as required by Commission rules (Rule 301 of Regulation S-T, 17 CFR 232.301 and Section 5.4 of EDGAR Filer Manual).

It appears to the Securities and Exchange Commission that there is a lack of current and accurate information concerning the securities of Genmed Holding Corp. (CIK No. 1061688), a revoked Nevada corporation with its principal place of business listed as Zoetermeer, The Netherlands, with stock quoted on OTC Link under the ticker symbol GENM, because it has not filed any periodic reports since the period ended December 31, 2012. On October 22, 2014, the Division of Corporation Finance sent Genmed Holding a delinquency letter requesting compliance with their periodic filing obligations, but the letter was returned because of Genmed Holdings' failure to maintain a valid address on file with the Commission, as required by Commission rules (Rule 301 of Regulation S-T, 17 CFR 232.301 and Section 5.4 of EDGAR Filer Manual).

It appears to the Securities and Exchange Commission that there is a lack of current and accurate information concerning the securities of Yanglin Soybean, Inc. (CIK No. 1368745), a revoked Nevada corporation with its principal place of business listed as Heilongjiang Province, China, with stock quoted on OTC Link under the ticker symbol YSYB, because it has not filed any periodic reports since the period ended December 31, 2012. On November 7, 2014, the Division of Corporation Finance sent Yanglin Soybean a delinquency letter requesting compliance with their periodic filing obligations, but the letter was returned because of Yanglin Soybean's failure to maintain a valid address on file with the Commission, as required by Commission rules (Rule 301 of Regulation S-T, 17 CFR 232.301 and Section 5.4 of EDGAR Filer Manual).

The Commission is of the opinion that the public interest and the protection of investors require a suspension of trading in the securities of the above-listed companies.

Therefore, it is ordered, pursuant to Section 12(k) of the Securities Exchange Act of 1934, that trading in the securities of the above-listed companies is suspended for the period from 9:30 a.m. EST on November 19, 2015, through 11:59 p.m. EST on December 3, 2015.

By the Commission.
Jill M. Peterson,
Assistant Secretary.

[FR Doc. 2015-29870 Filed 11-19-15; 11:15 am]

BILLING CODE 8011-01-P